DEPARTMENT OF ENERGY

Federal Energy Regulatory Commission

[Docket No. AD06-13-000]

Hydroelectric Infrastructure Technical Conference; Supplemental Notice of Technical Conference With Agenda

November 8, 2006.

On September 7, 2006, the Federal Energy Regulatory Commission issued a notice of a Commissioner-led technical conference on December 6, 2006, from 1 p.m. to 5:00 p.m. Eastern Standard Time. The conference will be held in the Commission Meeting Room on the second floor of the offices of the Federal Energy Regulatory Commission, 888 First Street, NE., Washington, DC. All interested persons may attend; there is no fee or registration. This supplemental notice provides more detailed information and establishes an agenda, which is attached.

The purpose of the conference is to discuss the status of new technologies in hydroelectric generation from ocean waves, tides, and currents and from free-flowing rivers, and to explore the environmental, financial, and regulatory issues pertaining to the development of these new technologies.

Transcripts of the conference will be immediately available from Ace Reporting Company (202-347-3700 or 1-800-336-6646) for a fee. They will be available to the public on the Commission's eLibrary system seven calendar days after FERC receives the transcript. A free webcast of this event will be available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.gmu.edu or contact Danelle Perkowski or David Reininger at 703-993-3100.

FERC conferences are accessible under section 508 of the Rehabilitation Act of 1973. For accessibility accommodations please send an e-mail to accessibility@ferc.gov or call toll free 866-208-3372 (voice) or 202-502-8659 (TTY), or send a FAX to 202-208-2106 with the required accommodations.

Anyone interested in participating in the workshop via video teleconference from one of the Commission's regional offices should call or e-mail the following staff, by November 22, 2006, to make arrangements. Seating capacity is limited.

Regional office | Staff contact | Telephone number | E-mail address
Atlanta | Charles Wagner | 770-452-3765 | Charles.wagner@ferc.gov.
Chicago | Michael Davis | 312-596-4434 | michael.davis@ferc.gov.
New York | Peter Valeri | 212-273-5930 | peter.valeri@ferc.gov.
Portland | Pat Regan | 503-552-2741 | patrick.regan@ferc.gov.
San Francisco | John Wiegel | 415-369-3336 | john.wiegel@ferc.gov.

The agenda for the workshop and other related materials will be made available on the Commission's calendar located at http://www.ferc.gov/EventCalendar/EventsList.aspx. For more information about the conference, please contact Tim Welch at 202-502-8760 (timothy.welch@ferc.gov) or Kristen Murphy at 202-502-6236 (kristen.murphy@ferc.gov).

Magalie R. Salas,
Secretary.

Federal Energy Regulatory Commission

HYDROELECTRIC INFRASTRUCTURE TECHNICAL CONFERENCE

Hydroelectric Generation from Ocean Waves, Tides, and Currents And from Free-Flowing Rivers

December 6, 2006.

1 p.m. Opening Remarks and Introductions

Chairman Joseph T. Kelliher, Commissioner Suedeen G. Kelly, Commissioner Marc Spitzer, Commissioner Philip D. Moeller, Commissioner Jon Wellinghoff

1:15 p.m. Agenda Overview

John Katz, Facilitator, Office of the General Counsel

1:20 p.m. Energy from Waves, Tides, Ocean Currents, and Free-Flowing Rivers: An Overview of Resource, Technology, and Business Issues

• George Hagerman, Senior Research Associate, Virginia Tech Advanced Research Institute

1:40 p.m. Panel: Environmental Issues

What are the known and potential effects of these new technologies on the environment and other resources?

• Jim Gibson, Senior Regulatory Specialist, Devine Tarbell and Associates

• Dr. Glenn Cada, Research Staff Member, Oak Ridge National Laboratory

• Dr. Mary Boatman, Alternative Energy Programmatic EIS Coordinator, Minerals Management Service

• John Novak (invited), Executive Director of Generation and Environment Sectors, Electric Power Research Institute

2:30 p.m. Panel: Financial Issues

What are the costs of these new technologies?

• Wayne F. Krouse, Chairman and CEO, Hydro Green Energy

• Alla Weinstein, President and CEO, AquaEnergy Group Ltd.

• Andrew Dzykewicz, Chief Energy Advisor to the Rhode Island Governor

• Dr. George Taylor, CEO, Ocean Power Technologies, Inc.

3:10 p.m. Panel: Regulatory Issues

Do the FERC permitting and licensing processes work for these new technologies?

• Gil Sperling, Corporate Counsel, Verdant Power, Inc.

• Thomas Bigford, Chief of Habitat Protection Division, Office of Habitat Conservation, National Marine Fisheries Service

• Sarah Bittleman, Director, Washington DC Office of the Governor of Oregon

• Richard Roos-Collins, Director of Legal Services, Natural Heritage Foundation

• Des McGinnes, Business Development Manager, Ocean Power Delivery, Ltd.

4:20 p.m. Open Forum

4:50 p.m. Closing Remarks

5 p.m. Adjourn

[FR Doc. E6-19335 Filed 11-15-06; 8:45 am]

BILLING CODE 6717-01-P